DEPARTMENT OF LABOR

Employment and Training Administration

[TA-W-37,240]

Chevron Products Company, Roosevelt, Utah; Notice of Revised Determination On Reopening

The Department of Labor reopened the petition investigation for workers of the subject firm.

The TAA petition filed with the Department on behalf of workers of Chevron Products Company, Roosevelt, Utah, was initiated on February 4, 2000. The petition investigation concluded that the subject firm did not produce an article and therefore its workers were not eligible for certification. The negative determination was issued on February 17, 2000, and published in the Federal Register on March 17, 2000 (65 FR 12647).

However, the Department determines on reopening that because Chevron Products Company, Roosevelt, Utah is a wholly owned subsidiary of Chevron USA Production Company, the Department finds that the workers' firm is actually Chevron USA Production Company. The two firms constituted an integrated production process the final products of which are crude oil and natural gas. The Department, on July 6, 1999, issued a certification of eligibility for that inquiry and the inquiry into whether the workers qualify as secondary workers under the Statement of Administrative Action. Since the workers were a part of a firm which produces an article, crude oil and natural gas, under Labor's existing rules, the characterization of the workers as production or service workers becomes irrelevant because that distinction only arises in cases where the workers are employed by separate firms. Similarly, since the workers are part of the firm that produced the article, they cannot be secondary workers, who, by definition, are employed by separate firms.

Conclusion

After careful consideration of the new facts obtained on reopening, it is concluded that increased imports of articles like or directly competitive with crude oil produced by Chevron USA Production and its affiliate Chevron Products Company, Roosevelt, Utah, contributed importantly to the decline in sales or production and to the total or partial separation of workers of the subject firm.

In accordance with the provisions of the Trade Act of 1974, I make the following revised determination:

“All workers of Chevron Products Company, Roosevelt, Utah, who became totally or partially separated from employment on or after January 4, 1999, through two years from the date of certification, are eligible to apply for adjustment assistance under section 223 of the Trade Act of 1974.”

Signed in Washington, DC this 2nd day of September 2003.
Richard Church,
Certifying Officer, Division of Trade Adjustment Assistance.

[FR Doc. 03-23710 Filed 9-16-03; 8:45 am]

BILLING CODE 4510-30-P